NATIONAL AERONAUTICS AND SPACE ADMINISTRATION

[Notice 11-113]

NASA Advisory Council Science Committee Planetary Science Subcommittee; Meeting

AGENCY: National Aeronautics and Space Administration.

ACTION: Notice of Meeting Postponement.

SUMMARY: In accordance with the Federal Advisory Committee Act, Public Law 92-463, as amended, the National Aeronautics and Space Administration (NASA) announces that the meeting of the Planetary Science Subcommittee of the NASA Advisory Council originally scheduled for November 2-3, 2011, at NASA Headquarters, has been postponed due to the recent unexpected and tragic loss of Dr. Ronald Greeley, Subcommittee Chair. A notice was published in the Federal Register at 76 FR 64387 on October 18, 2011 announcing the meeting. NASA regrets any inconvenience due to these extraordinary circumstances. The meeting will be rescheduled for a later date, and notice of the new date will be published in the Federal Register.

FOR FURTHER INFORMATION CONTACT: Ms. Marian Norris, Science Mission Directorate, NASA Headquarters, Washington, DC 20546, at mnorris@nasa.gov or by telephone at (202) 358-4452.

November 1, 2011.
P. Diane Rausch,
Advisory Committee Management Officer, National Aeronautics and Space Administration.

[FR Doc. 2011-28938 Filed 11-7-11; 8:45 am]

BILLING CODE P